DEPARTMENT OF STATE

[Public Notice 3439]

Culturally Significant Objects Imported for Exhibition Determinations: “Dresden Green Diamond”

AGENCY: U.S. Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the Dresden Green Diamond, imported from abroad for the temporary exhibition without profit within the United States, is of cultural significance. The object is imported pursuant to loan agreements with the foreign lender. I also determine that the exhibition or display of the object at the Harry Winston Research Foundation, Inc., New York, New York, on October 11, 2000, and at the National Museum of Natural History, Smithsonian Institution, Washington, DC, from on or about October 12, 2000, to on or about January 15, 2001, is in the national interest. Public Notice of these Determinations is ordered to be published in the Federal Register.

FOR FURTHER INFORMATION CONTACT: For further information, contact Lorie J. Nierenberg, Assistant Legal Adviser for Public Diplomacy and Public Affairs, U.S. Department of State (telephone: 202/619-5078). The address is U.S. Department of State, SA-44, 301-4th Street, SW., Room 700, Washington, DC 20547-0001.

Dated: October 3, 2000.
William B. Bader,
Assistant Secretary for Educational and Cultural Affairs, U.S. Department of State.

[FR Doc. 00-25975 Filed 10-5-00; 8:45 am]

BILLING CODE 4710-08-P